DEPARTMENT OF HEALTH AND HUMAN SERVICES

Indian Health Service

Request for Public Comment: 60-Day Proposed Information Collection: Indian Health Service; HIV Knowledge/Attitudes/Practice Customer Survey

AGENCY: Indian Health Service, HHS.

ACTION: Notice.

SUMMARY: In compliance with Section 3506(c)(2)(A) of the Paperwork Reduction Act of 1995 which requires 60 days for public comment on proposed information collection projects, the Indian Health Service (IHS) is publishing for comment a summary of a proposed information collection to be submitted to the Office of Management and Budget (OMB) for review.

Proposed Collection: Title: 0917-NEW, “Indian Health Service HIV Knowledge/Attitudes/Practice Customer Survey.” Type of Information Collection Request: This is a one time survey to deliver the mission of the IHS and Centers for Disease Control (CDC) national guidelines collection, 0917-NEW, “Indian Health Service HIV Knowledge/Attitudes/Practice Customer Survey.” Form(s): The Indian Health Service Customer Survey. Need and Use of Information Collection:

The IHS goal is to raise the health status of the American Indian and Alaska Native (AI/AN) people to the highest possible level by providing comprehensive health care and preventive health services. To support the IHS mission, the Division of Epidemiology and Disease Prevention (DEDP) and the Human Immunodeficiency Virus (HIV) Program collaborate to provide programmatic, technical, and financial assistance to IHS Areas and Service Units for improving prevention, detection, and treatment of infectious and chronic disease, specifically in this case, HIV and Sexually Transmitted Disease (STD).

The “HIV Knowledge/Attitudes/Practice Customer Survey” (hereto referred to as Customer Survey), will provide the information needed to understand the most effective and appropriate methods to complete these goals. With the information collected from patients, we will be able to offer recommendations to Service Units on how to best scale up screening for sensitive topics such as HIV and STDs in AI/AN communities. Also, the information will give IHS the tools to assist our Service Units with implementation of current national recommendations by CDC. At the moment, we are encouraging uptake of current CDC national recommendations; however, without this information, we are unable to maximize effectiveness, dispel myths, and identify misinformation.

Voluntary customer surveys will be conducted through self-administered questionnaires, face-to-face interviews, and potentially electronic media. The information gathered will be used by DEDP and the HIV Program to identify how patients would prefer to be offered expanded testing in a way that is respectful, confidential, and effective. Affected Public: Individuals. Type of Respondents: IHS customers.

The table below provides: Types of data collection instruments, Estimated number of respondents, Number of responses per respondent, Average burden hour per response, and Total annual burden hour(s).

Estimated Burden Hours
Data collection instrument | Estimated number of respondents | Responses per respondent | Average burden hour per response | Total annual burden hours
Customer survey | 1000 | 1 | 10/60 | 166
Total | 1000 |  |  | 166

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of the public burden estimate (the estimated amount of time needed for individual respondents to provide the requested information); (d) whether the methodology and assumptions used to determine the estimates are logical; (e) ways to enhance the quality, utility, and clarity of the information being collected; and (f) ways to minimize the public burden through the use of automated, electronic, mechanical, or other technological collection techniques or other forms of information technology.

Send Comments and Requests for Further Information: Send your written comments, requests for more information on the proposed collection, or requests to obtain a copy of the data collection instrument(s) and instructions to: Ms. Janet Ingersoll, Acting IHS Reports Clearance Officer, 801 Thompson Avenue, TMP 450, Rockville, MD 20852-1627; call non-toll free (301) 443-6177; send via facsimile to (301) 443-2316; or send your E-mail requests, comments, and return address to: janet.ingersoll@ihs.gov.

Comment Due Date: Your comments regarding this information collection are best assured of having full effect if received within 60 days of the date of this publication.

Dated: August 18, 2008.
Robert G. McSwain,
Director, Indian Health Service.

[FR Doc. E8-19479 Filed 8-22-08; 8:45 am]

BILLING CODE 4165-16-M